DEPARTMENT OF STATE

[Public Notice: 10831]

Certification Pursuant to Section 7008 of the Department of State, Foreign Operations, and Related Programs Appropriations Act, 2019 With Respect to Thailand

Pursuant to the authority vested in me as Secretary of State, including by section 7008 of the Department of State, Foreign Operations, and Related Programs Appropriations Act, 2019 (Div. F, Pub. L. 116-6), and similar provisions in previous appropriations acts, I hereby certify that subsequent to the termination of assistance to the Government of Thailand a democratically elected government has taken office in Thailand.

This Certification shall be published in the Federal Register and, along with the accompanying Memorandum of Justification, shall be reported to Congress.

Michael R. Pompeo,
Secretary of State.

[FR Doc. 2019-15949 Filed 7-25-19; 8:45 am]

BILLING CODE 4710-30-P